DEPARTMENT OF AGRICULTURE

Forest Service

Lewis Run Project, McKean County, Pennsylvania

AGENCY: Forest Service, USDA.

ACTION: Revised notice of intent to prepare an environmental impact statement.

SUMMARY: Reference is made to our notice of intent to prepare an environmental impact statement for the Lewis Run Project (FR Document. 00-18987 filed 7/27/00) published in the Federal Register, Volume 65, No. 146, Friday, July 28, 2000, pages 46421-22.

In accordance with Forest Service Environmental Policy and Procedures handbook 1909.15, part 21.2—Revision of Notices of Intent, we are revising the date that the Draft Environmental Impact Statement is expected to be filed with the Environmental Protection Agency and be available for public review and comment to March 1, 2002. Subsequently, the date the final EIS is scheduled to be completed is revised to be June 1, 2002.

FOR FURTHER INFORMATION, CONTACT: Andrea Hille, Bradford Ranger District, Star Route 1 Box 88, Bradford, PA 16701 or by telephone at 814-362-4613.

Dated: January 30, 2002.
Kevin B. Elliott,
Forest Supervisor.

[FR Doc. 02-2656 Filed 2-4-02; 8:45 am]

BILLING CODE 3410-11-M